DEPARTMENT OF THE TREASURY

Submission for OMB Review; Comment Request

June 15, 2011.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before July 21, 2011 to be assured of consideration.

Internal Revenue Service (IRS)

OMB Number: 1545-1420.

Type of Review: Revision of a currently approved collection.

Title: Claim for Refund of Excise Taxes.

Form: 8849 and related schedules.

Abstract: IRC sections 6402, 6404, 6511 and sections 301.6402-2, 301.6404-1, and 301.6404-3 of the regulations, allow for refunds of taxes (except income taxes) or refund, abatement, or credit of interest, penalties, and additions to tax in the event of errors or certain actions by IRS. Form 8849 is used by taxpayers to claim refunds of excise taxes.

Respondents: Individuals or Households; Private sector: Businesses or other for-profits.

Estimated Total Burden Hours: 949,686.

OMB Number: 1545-1760.

Type of Review: Extension without change of a currently approved collection.

Title: Payments From Qualified Education Programs (Under Sections 529 and 530).

Form: 1099-Q.

Abstract: Form 1099-Q is used to report distributions from private and state qualified tuition programs as required under Internal Revenue Code sections 529 and 530.

Respondents: Private sector: Businesses or other for-profits.

Estimated Total Burden Hours: 33,000.

OMB Number: 1545-2101.

Type of Review: Extension without change of a currently approved collection.

Title: TD 9403—Unrelated Business Income Tax on Charitable Remainder Trusts.

Abstract: This document contains final regulations that provide guidance under Internal Revenue Code (Code) section 664 on the tax effect of unrelated business taxable income (UBTI) on charitable remainder trusts. The regulations reflect the changes made to section 664(c) by section 424(a) and (b) of the Tax Relief and Health Care Act of 2006. The regulations affect charitable remainder trusts that have UBTI in taxable years beginning after December 31, 2006.

Respondents: Private sector: Not-for-profit institutions.

Estimated Total Burden Hours: 50.

OMB Number: 1545-2102.

Type of Review: Revision of a currently approved collection.

Title: Central Withholding Agreement.

Form: 13930.

Abstract: This form will be used by an individual who wishes to have a Central Withholding Agreement (CWA). This form instructs him regarding how to make his application for consideration. IRS Section 1441(a) requires withholding on certain payments of Non Resident Aliens (NRAs). Section 1.1441-4(b)(3) of the Income Tax Regulations provides that the withholding can be considered for adjustment if a CWA is applied for and granted.

Respondents: Individuals and Households.

Estimated Total Burden Hours: 9,200.

OMB Number: 1545-2201.

Type of Review: Extension without change of a currently approved collection.

Title: TD 9518—Specified Tax Return Preparers Required to File Individual Income Tax Returns Using Magnetic Media.

Abstract: This document contains regulations relating to the requirement for “specified tax return preparers,” generally tax return preparers who reasonably expect to file more than 10 individual income tax returns in a calendar year, to file individual income tax returns using magnetic media pursuant to section 6011(e)(3) of the Internal Revenue Code (Code). The regulations reflect changes to the law made by the Worker, Homeownership, and Business Assistance Act of 2009. The regulations affect specified tax return preparers who prepare and file individual income tax returns, as defined in section 6011(e)(3)(C). For calendar year 2011, the proposed regulations define a specified tax return preparer as a tax return preparer who reasonably expects to file (or if the preparer is a member of a firm, the firm's members in the aggregate reasonably expect to file) 100 or more individual income tax returns during the year, while beginning January 1, 2012 a specified tax return preparer is a tax return preparer who reasonably expects to file (or if the preparer is a member of a firm, the firm's members in the aggregate reasonably expect to file) 11 or more individual income tax returns in a calendar year.

Respondents: Private Sector: Businesses or other for-profits.

Estimated Total Burden Hours: 1,689,930.

OMB Number: 1545-2203.

Type of Review: Extension without change of a currently approved collection.

Title: Allocation of Increase in Basis for Property Received from a Decedent.

Form: 8939 and related schedules.

Abstract: Section 6018 of the Internal Revenue Code requires this return to be filed by an executor the fair market value of all property (other than cash) acquired from the decedent is more than $1.3 million; in the case of a decedent who was a nonresident not a citizen of the United States, the fair market value of tangible property situated in the United States and other property acquired from the decedent by a United States person is greater than $60,000; or appreciated property is acquired from the decedent that the decedent acquired by gift within three years of death and a gift tax return was required to be filed on the transfer to the decedent. Section 6018(e) also requires executors who must file Form 8939 to provide the same information to recipients of the property as the executor must provide to the IRS.

Respondents: Individuals and Households.

Estimated Total Burden Hours: 1,725,090.

Bureau Clearance Officer: Yvette Lawrence, Internal Revenue Service, 1111 Constitution Avenue, NW., Washington, DC 20224; (202) 927-4374.

OMB Reviewer: Shagufta Ahmed, Office of Management and Budget, New Executive Office Building, Room 10235, Washington, DC 20503; (202) 395-7873.

Dawn D. Wolfgang,
Treasury PRA Clearance Officer.

[FR Doc. 2011-15316 Filed 6-20-11; 8:45 am]

BILLING CODE 4830-01-P